DEPARTMENT OF DEFENSE

Department of the Navy

Notice of Performance Review Board Membership

AGENCY: Department of the Navy, DoD.

ACTION: Notice.

SUMMARY: Pursuant to 5 U.S.C. 4314(c)(4), the Department of Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for performance bonuses and basic pay increases. Composition of the specific PRBs will be determined on an ad hoc basis from among the individuals listed below:

CAPT Mark Bruington

CAPT Robert Palisin

Dr. Frank Herr

Dr. John Montgomery

Dr. John Zangardi

Dr. Judith Lean

Dr. Thomas Killion

Dr. Walter Jones

Honorable Juan M. Garcia

Mr. Anthony Cifone

Mr. Brian Persons

Mr. Bryan Wood

Mr. Charles Cook

Mr. Dennis Biddick

Mr. Donald McCormack

Mr. Donald Schregardus

Mr. Elliott Branch

Mr. Garry Newton

Mr. Gary Kessler

Mr. James McCarthy

Mr. James Smerchansky

Mr. James Thomsen

Mr. Jerome Punderson

Mr. John Goodhart

Mr. Joseph Ludovici

Mr. Mark Andress

Mr. Mark Honecker

Mr. Mark Lutterloh

Mr. Michael Kistler

Mr. Patrick Sullivan

Mr. Phillip Chudoba

Mr. Robert Hogue

Mr. Robert Woods

Mr. Ronald Davis

Mr. Samuel Worth

Mr. Scott O'Neil

Mr. Steven Iselin

Mr. Thomas Dee

Mr. Thomas Ledvina

Mr. Todd Balazs

Mr. Victor Ackley

Mr. Victor Gavin

Mr. William Deligne

Ms. Allison Stiller

Ms. Anne Brennan

Ms. Anne Davis

Ms. Ariane Whittemore

Ms. BJ White-Olson

Ms. Carmela Keeney

Ms. Katherine Mattson

Ms. Lynn Wright

Ms. Mary Lacey

Ms. Sharon Smoot

Ms. Sheryl Murray

RADM Elizabeth Train

RADM Kevin Slates

RDML Brian Antonio

RDML Lawrence Creevy

RDML Mark Whitney

RDML Michael Moran

RDML Tom Kearney

VADM Paul Grosklags

FOR FURTHER INFORMATION CONTACT: Jacqueline Wourman, Performance Management Program Manager, Executive Management Program Office, Office of Civilian Human Resources at 202 685-6665.

Dated: January 12, 2015.
N. A. Hagerty-Ford,
Commander, Judge Advocate General's Corps, U.S. Navy, Federal Register Liaison Officer.

[FR Doc. 2015-00679 Filed 1-16-15; 8:45 am]

BILLING CODE 3810-FF-P